DEPARTMENT OF COMMERCE

Patent and Trademark Office

Global Intellectual Property Academy Program Survey

ACTION: Proposed collection; comment request.

SUMMARY: The United States Patent and Trademark Office (USPTO), as part of its continuing effort to reduce paperwork and respondent burden, invites the general public and other Federal agencies to take this opportunity to comment on this new information collection, as required by the Paperwork Reduction Act of 1995, Public Law 104-13 (44 U.S.C. 3506(c)(2)(A)).

DATES: Written comments must be submitted on or before November 2, 2010.

ADDRESSES: You may submit comments by any of the following methods:

• E-mail: InformationCollection@uspto.gov. Include “0651-00xx Global Intellectual Property Academy Program Survey comment” in the subject line of the message.

• Fax: 571-273-0112, marked to the attention of Susan Fawcett.

• Mail: Susan K. Fawcett, Records Officer, Office of the Chief Information Officer, U.S. Patent and Trademark Office, P.O. Box 1450, Alexandria, VA 22313-1450.

• Federal e-Rulemaking Portal: http://www.regulations.gov.

FOR FURTHER INFORMATION CONTACT: Requests for additional information should be directed to the attention of J. David Binsted, Program Manager, Global Intellectual Property Academy, United States Patent and Trademark Office, P.O. Box 1450, Alexandria, VA 22313-1450; by telephone 571-272-1500; or by e-mail at james.binsted@uspto.gov.

SUPPLEMENTARY INFORMATION

I. Abstract

The U.S. Patent and Trademark Office plans to survey participants of the Global Intellectual Property Academy (GIPA) technical assistance programs. The survey data will be collected in order to obtain assessment data for the U.S. Government's accountability process, better known as the PART, or Program Assessment Rating Tool. Assessment of the GIPA programs will provide the USPTO information to implement best practices and program improvements, where necessary.

Participants will be limited to those individuals, both national and international, who have attended or are attending GIPA training. These surveys will be done in three parts: Pre-program, post-program, and alumnus. Program participants will be asked to complete the pre-program survey immediately prior to their program, the post-program survey immediately after the program, and the alumni survey approximately one year after the program. The surveys are expected to be conducted online using a recognized survey partner, the Federal Consulting Group.

Participants will access the online survey through links provided in e-mails or through the USPTO Web site. Participants will not need usernames, passwords, or survey ID numbers to access the online survey.

Survey responses will be kept confidential. The USPTO does not intend to collect any personal identifying data from participants taking the survey. Data collected from the survey will be linked to the participants. The USPTO intends to maintain contact information for the participants in a separate file from the quantitative data.

The USPTO expects to follow-up with participants who do not respond to the survey. Participants who do not respond will be contacted up to three times.

II. Method of collection

Electronically over the Internet or by e-mail. In-person surveys may potentially be conducted.

III. Data

OMB Number: 0651-00xx.

Form Number(s): None.

Type of Review: New collection.

Affected Public: Individuals.

Estimated Number of Respondents: 1,500 responses per year (500 participants × 3 surveys each).

Estimated Time per Response: The USPTO estimates that it will take approximately 20 minutes (0.33 hours) for participants to provide their responses. This estimate includes the time to gather the necessary information, complete the survey, and submit it to the USPTO.

Estimated Total Annual Respondent Burden Hours: 495 hours.

Estimated Total Annual Respondent Cost Burden: $71,775. The audience for the GIPA training programs typically consists of high-ranking government officials, judges, lawyers, examiners, and others. The USPTO estimates that roughly 20% of the attendees fall into the high-ranking categories, while the rest make up 80% of the attendees. The USPTO estimates that the hourly labor rate for 20% of the attendees would be roughly equivalent to the professional hourly rate of $325, while the rest would be roughly equivalent to the para-professional rate of $100. Using these U.S. hourly rates, the USPTO estimates a professional hourly rate of $65 (20% of $325) and a para-professional rate of $80 (80% of $100), for a total hourly rate of $145. Using the total hourly rate, the USPTO estimates $71,775 per year for salary costs associated with respondents.

Item | Estimated time for response (min) | Estimated annual responses | Estimated annual burden hours
Pre-Program Survey | 20 | 500 | 165
Post Program Survey | 20 | 500 | 165
Alumnus Survey | 20 | 500 | 165
Totals |  | 1,500 | 495

Estimated Total Annual Non-Hour Respondent Cost Burden: $0. There are no capital start-up, maintenance, recordkeeping, or postage costs associated with these surveys, nor are there any filing or other fees for these surveys.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they will also become a matter of public record.

Susan K. Fawcett,
Records Officer, USPTO, Office of the Chief Information Officer.

[FR Doc. 2010-22041 Filed 9-2-10; 8:45 am]

BILLING CODE 3510-16-P